ENVIRONMENTAL PROTECTION AGENCY

40 CFR Part 52

[OH160-1b; FRL-7632-3]

Approval and Promulgation of State Implementation Plans; Ohio; Approval of Revision to Oxides of Nitrogen Regulations

AGENCY: Environmental Protection Agency (EPA).

ACTION: Proposed rule.

SUMMARY: The EPA is proposing to approve, through direct final procedure, a revision to the flow control date in the Oxides of Nitrogen (NOX) budget trading program. This plan revision was submitted for approval by the Ohio Environmental Protection Agency on November 26, 2003. The revision changes the flow control date to 2005 in Ohio's NOX State Implementation Plan (SIP) rule, Ohio Administrative Code 3745-14-06. This date change was a condition for the approval of the Ohio NOX SIP, which was conditionally approved by EPA on August 5, 2003. 68 FR 46089. If EPA receives written adverse comments, the direct final rule will be withdrawn and all public comments received will be addressed in a subsequent final rule based on this proposed rule. If no such adverse written comments are received, the direct final rule will take effect on the date stated in that document and no further activity will be taken on this proposed rule. Any party interested in commenting on this action should do so at this time.

DATES: Written comments must be received on or before April 21, 2004.

Comments may also be submitted electronically or through hand delivery/courier, please follow the detailed instructions described in Part (I)(B)(1)(i) through (iii) of the SUPPLEMENTARY INFORMATION section of the related direct final rule which is published in the Rules section of this Federal Register.

ADDRESSES: Written comments should be sent to: J. Elmer Bortzer, Acting Chief, Air Programs Branch (AR-18J), U.S. Environmental Protection Agency, Region 5, 77 West Jackson Boulevard, Chicago, Illinois 60604, bortzer.jay@epa.gov.

FOR FURTHER INFORMATION CONTACT: John Paskevicz, Engineer, Criteria Pollutant Section, Air Programs Branch (AR-18J), U.S. Environmental Protection Agency, Chicago, Illinois, 60604. E-mail address: paskevicz.john@epa.gov.

SUPPLEMENTARY INFORMATION: For additional information see the direct final rule published in the rules section of this Federal Register.

Authority: 42 U.S.C. 4201 et seq.

Dated: February 19, 2004.
Bharat Mathur,
Acting Regional Administrator, Region 5.

[FR Doc. 04-6304 Filed 3-19-04; 8:45 am]

BILLING CODE 6560-50-P